DEPARTMENT OF ENERGY

Federal Energy Regulatory Commission

[Docket No. RP01-315-000]

Reliant Energy Gas Transmission Company; Notice of Revenue Credit Report

April 3, 2001.

Take notice that on March 30, 2001, Reliant Energy Gas Transmission Company (REGT) submitted its Annual Revenue Crediting Filing pursuant to its FERC Gas Tariff, Fifth Revised Volume No. 1, section 5.7(c)(ii)(2)B (Imbalance Cash Out), section 23.2(b)(iv) (IT and SBS Revenue Crediting) and section 23.7 (IT Revenue Credit).

REGT states that its filing addresses the period from February 1, 2000 through January 31, 2001. The IT and FT Cash Balancing Revenue Credits and the IT Revenue Credit for the period reflected in this filing are zero. Since REGT's current tariff sheets already reflect zero Cash Balancing and IT Revenue Credits, no tariff revisions are necessary.

Any person desiring to be heard or to protest said filing should file a motion to intervene or a protest with the Federal Energy Regulatory Commission, 888 First Street, NE., Washington, D.C. 20426, in accordance with sections 385.214 or 385.211 of the Commission's Rules and Regulations. All such motions or protests must be filed on or before April 10, 2001. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance). Comments, protests, and interventions may be filed electronically via the internet in lieu of paper. See, 18 CFR 385.2001(a)(1)(iii) and the instructions on the Commission's web site at http://www.ferc.fed.us/efi/doorbell.htm.

David P. Boergers,
Secretary.

[FR Doc. 01-8594 Filed 4-6-01; 8:45 am]

BILLING CODE 6717-01-M